DEPARTMENT OF ENERGY

Federal Energy Regulatory Commission

[Docket No. PR10-20-001]

Regency Intrastate Gas LP; Notice of Compliance Filing

July 19, 2010.

Take notice that on July 14, 2010, Regency Intrastate Gas LP filed pursuant to the Letter Order approving the Stipulation and Agreement (Settlement) in Docket Nos. PR10-7-000 and 001, a revised Operating Statement effective August 1, 2010. The updated Operating Statement includes a revised Statement of Rate page and minor changes throughout the document to reference transportation service “charges” rather than “fees.”

Any person desiring to protest this filing must file in accordance with Rule 211 of the Commission's Rules of Practice and Procedure (18 CFR 385.211). Protests to this filing will be considered by the Commission in determining the appropriate action to be taken, but will not serve to make protestants parties to the proceeding. Such protests must be filed on or before 5 p.m. e.t. on the specified comment date. Anyone filing a protest must serve a copy of that document on all the parties to the proceeding.

The Commission encourages electronic submission of protests in lieu of paper using the “eFiling” link at http://www.ferc.gov. Persons unable to file electronically should submit an original and 14 copies of the protest to the Federal Energy Regulatory Commission, 888 First Street, NE., Washington, DC 20426.

This filing is accessible online at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. e.t. on Monday, August 2, 2010.

Kimberly D. Bose,
Secretary.

[FR Doc. 2010-18282 Filed 7-26-10; 8:45 am]

BILLING CODE 6717-01-P